DEPARTMENT OF TRANSPORTATION

Maritime Administration

[Docket No. MARAD-11066]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before February 4, 2002.

FOR FURTHER INFORMATION CONTACT: Edmund T. Sommer, Jr., Maritime Administration, MAR 221, 400 Seventh Street, SW., Washington, DC 20590. Telephone: 202-366-5181, or FAX: 202-366-7485. Copies of this collection can also be obtained from that office.

SUPPLEMENTARY INFORMATION: Title of Collection: Application for Designation of Vessels as American Great Lakes Vessels.

Type of Request: Extension of currently approved information collection.

OMB Control Number: 2133-0521.

Form Numbers: None.

Expiration Date of Approval: June 30, 2002.

Summary of Collection of Information: In accordance with Public Law 101-624, the Secretary of Transportation issued requirements for the submission of applications for designation of vessels as American Great Lakes Vessels. Owners who wish to have this designation must certify that their vessel(s) meets certain criteria established in 46 CFR part 380.

Need and Use of the Information: Application is mandated by statute to establish that a vessel meets statutory criteria for obtaining the benefit of eligibility to carry preference cargoes.

Description of Respondents: Shipowners of merchant vessels.

Annual Responses: One response.

Annual Burden: 1.25 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT, Monday through Friday, except Federal Holidays. An electronic version of this document is available on the World Wide Web at http://dms.dot.gov.

By order of the Maritime Administrator.
Dated: November 29, 2001.
Joel C. Richard,
Secretary.

[FR Doc. 01-29994 Filed 12-3-01; 8:45 am]

BILLING CODE 4910-81-P